DEPARTMENT OF THE INTERIOR

Bureau of Land Management

[LLOR957000-L625100000-PM000: HAG11-0075]

Filing of Plats of Survey: Oregon/Washington

AGENCY: Bureau of Land Management, Interior.

ACTION: Notice.

SUMMARY: The plats of survey of the following described lands are scheduled to be officially filed in the Bureau of Land Management Oregon/Washington State Office, Portland, Oregon, 30 days from the date of this publication.

Willamette Meridian

Oregon

T. 6 S., R. 10 E., accepted November 1, 2010

T. 41 S., R. 15 E., accepted November 1, 2010

T. 41 S., R. 14½ E., accepted November 1, 2010

T. 3 S., R. 44 E., accepted November 1, 2010

T. 26 S., R. 12 W., accepted November 5, 2010

ADDRESSES: A copy of the plats may be obtained from the Land Office at the Bureau of Land Management, Oregon/Washington State Office, 333 S.W. 1st Avenue, Portland, Oregon 97204, upon required payment. A person or party who wishes to protest against a survey must file a notice that they wish to protest (at the above address) with the Oregon/Washington State Director, Bureau of Land Management, Portland, Oregon.

FOR FURTHER INFORMATION CONTACT: Kyle Hensley, (503) 808-6124, Branch of Geographic Sciences, Bureau of Land Management, 333 S.W. 1st Avenue, Portland, Oregon 97204.

Pamela J. Chappel,
Acting Chief, Branch of Land, Mineral, and Energy Resources.

[FR Doc. 2010-31430 Filed 12-14-10; 8:45 am]

BILLING CODE 4310-33-P